DEPARTMENT OF ENERGY

Federal Energy Regulatory Commission

Combined Notice of Filings #1

Take notice that the Commission received the following Complaints and Compliance filings in EL Dockets:

Docket Numbers: EL23-53-000.

Applicants: Essential Power OPP, LLC, et al v. PJM Interconnection, L.L.C.

Description: Complaint of Essential Power OPP, LLC, et al. v. PJM Interconnection, L.L.C.

Filed Date: 3/31/23.

Accession Number: 20230331-5217.

Comment Date: 5 p.m. ET 4/20/23.

Take notice that the Commission received the following electric rate filings:

Docket Numbers: ER23-629-001.

Applicants: Public Service Company of Colorado.

Description: Tariff Amendment: 2023-04-03 Att N Revisions—Response to Deficiency Ltr to be effective 6/3/2023.

Filed Date: 4/3/23.

Accession Number: 20230403-5146.

Comment Date: 5 p.m. ET 4/24/23.

Docket Numbers: ER23-920-000.

Applicants: Meadow Lake Solar Park LLC.

Description: Report Filing: Supplement to Notice of Non-Material Change in Status and MBR Tariff Revisions to be effective N/A.

Filed Date: 3/21/23.

Accession Number: 20230321-5007.

Comment Date: 5 p.m. ET 4/11/23.

Docket Numbers: ER23-944-001.

Applicants: Calpine Community Energy, LLC.

Description: Tariff Amendment: Amendment to Market-Based Rate Application to be effective 1/27/2023.

Filed Date: 4/3/23.

Accession Number: 20230403-5186.

Comment Date: 5 p.m. ET 4/24/23.

Docket Numbers: ER23-1219-001.

Applicants: PJM Interconnection, L.L.C.

Description: Tariff Amendment: ISA, SA No. 6816; Queue No. AF1-271A Supplement to Filing to be effective 2/1/2023.

Filed Date: 3/31/23.

Accession Number: 20230331-5474.

Comment Date: 5 p.m. ET 4/21/23.

Docket Numbers: ER23-1251-001.

Applicants: San Jacinto Grid, LLC.

Description: Tariff Amendment: Supplement to Market-Based Rate Application to be effective 5/6/2023.

Filed Date: 4/3/23.

Accession Number: 20230403-5252.

Comment Date: 5 p.m. ET 4/24/23.

Docket Numbers: ER23-1252-001.

Applicants: Ortega Grid, LLC.

Description: Tariff Amendment: Supplement to Market-Based Rate Application to be effective 5/6/2023.

Filed Date: 4/3/23.

Accession Number: 20230403-5238.

Comment Date: 5 p.m. ET 4/24/23.

Docket Numbers: ER23-1544-000.

Applicants: Otter Tail Power Company.

Description: Request for Approval of Transmission Rate Incentives of Otter Tail Power Company.

Filed Date: 3/31/23.

Accession Number: 20230331-5589.

Comment Date: 5 p.m. ET 4/21/23.

Docket Numbers: ER23-1545-000.

Applicants: Great Plains Windpark Legacy, LLC.

Description: Request for Limited Waiver, et al. of Great Plains Windpark Legacy, LLC.

Filed Date: 3/31/23.

Accession Number: 20230331-5591.

Comment Date: 5 p.m. ET 4/21/23.

Docket Numbers: ER23-1546-000.

Applicants: IP Oberon, LLC.

Description: Baseline eTariff Filing: Filing of LGIA Co-Tenancy Agreement to be effective 6/5/2023.

Filed Date: 4/3/23.

Accession Number: 20230403-5057.

Comment Date: 5 p.m. ET 4/24/23.

Docket Numbers: ER23-1547-000.

Applicants: IP Oberon, LLC.

Description: § 205(d) Rate Filing: Shared Facilities Agreement to be effective 6/5/2023.

Filed Date: 4/3/23.

Accession Number: 20230403-5061.

Comment Date: 5 p.m. ET 4/24/23.

Docket Numbers: ER23-1548-000.

Applicants: Southwest Power Pool, Inc.

Description: Notice of Cancellation of Network Integration Transmission Service Agreement and Network Operating Agreement of Southwest Power Pool, Inc.

Filed Date: 4/3/23.

Accession Number: 20230403-5134.

Comment Date: 5 p.m. ET 4/24/23.

Docket Numbers: ER23-1549-000.

Applicants: Alabama Power Company, Georgia Power Company, Mississippi Power Company.

Description: § 205(d) Rate Filing: Alabama Power Company submits tariff filing per 35.13(a)(2)(iii: Timberland Solar 3 LGIA Filing to be effective 3/22/2023.

Filed Date: 4/3/23.

Accession Number: 20230403-5148.

Comment Date: 5 p.m. ET 4/24/23.

Docket Numbers: ER23-1550-000

Applicants: Alabama Power Company, Georgia Power Company, Mississippi Power Company.

Description: § 205(d) Rate Filing: Alabama Power Company submits tariff filing per 35.13(a)(2)(iii: Southwest Atlanta Energy Storage LGIA Filing to be effective 3/22/2023.

Filed Date: 4/3/23.

Accession Number: 20230403-5149.

Comment Date: 5 p.m. ET 4/24/23.

Docket Numbers: ER23-1551-000.

Applicants: Alabama Power Company, Georgia Power Company, Mississippi Power Company.

Description: § 205(d) Rate Filing: Alabama Power Company submits tariff filing per 35.13(a)(2)(iii: Brooker Trail Solar LGIA Filing to be effective 3/22/2023.

Filed Date: 4/3/23.

Accession Number: 20230403-5150.

Comment Date: 5 p.m. ET 4/24/23.

Docket Numbers: ER23-1552-000.

Applicants: PJM Interconnection, L.L.C.

Description: § 205(d) Rate Filing: Amendment to ISA, Service Agreement No. 6278; Queue No. AD2-048 to be effective 6/2/2023.

Filed Date: 4/3/23.

Accession Number: 20230403-5185.

Comment Date: 5 p.m. ET 4/24/23.

Docket Numbers: ER23-1553-000.

Applicants: PJM Interconnection, L.L.C.

Description: § 205(d) Rate Filing: Amendment to ISA, Service Agreement No. 6555; Queue No. AC1-086 to be effective 6/3/2023.

Filed Date: 4/3/23.

Accession Number: 20230403-5193.

Comment Date: 5 p.m. ET 4/24/23.

Docket Numbers: ER23-1554-000.

Applicants: PJM Interconnection, L.L.C.

Description: § 205(d) Rate Filing: Original ISA, SA No. 6842; Queue No. AF1-215 & Cancellation of IISA, SA No. 6216 to be effective 3/2/2023.

Filed Date: 4/3/23.

Accession Number: 20230403-5200.

Comment Date: 5 p.m. ET 4/24/23.

Docket Numbers: ER23-1555-000.

Applicants: PJM Interconnection, L.L.C.

Description: § 205(d) Rate Filing: Amendment to ISA, SA No. 6276; Queue No. AE2-060 (amend) to be effective 6/3/2023.

Filed Date: 4/3/23.

Accession Number: 20230403-5218.

Comment Date: 5 p.m. ET 4/24/23.

Docket Numbers: ER23-1556-000.

Applicants: Alabama Power Company, Georgia Power Company, Mississippi Power Company.

Description: § 205(d) Rate Filing: Alabama Power Company submits tariff filing per 35.13(a)(2)(i): Attachment S (GPCO) 2023 Updated Depreciation Rates Filing to be effective 1/1/2023.

Filed Date: 4/3/23.

Accession Number: 20230403-5241.

Comment Date: 5 p.m. ET 4/24/23.

Take notice that the Commission received the following public utility holding company filings:

Docket Numbers: PH23-10-000.

Applicants: Alberta Investment Management Corporation.

Description: Alberta Investment Management Corporation submits FERC 65-B Notice of Change in Fact to Waiver Notification.

Filed Date: 3/31/23.

Accession Number: 20230331-5597.

Comment Date: 5 p.m. ET 4/21/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2023.
Debbie-Anne A. Reese,
Deputy Secretary.

[FR Doc. 2023-07339 Filed 4-6-23; 8:45 am]

BILLING CODE 6717-01-P